ENVIRONMENTAL PROTECTION AGENCY

[OPP-2002-0266; FRL-7276-1]

Methamidophos; Organophosphate Pesticide; Availability of Interim Risk Management Decision Document

AGENCY: Environmental Protection Agency (EPA).

ACTION: Notice.

SUMMARY: This notice announces the availability of the Interim Reregistration Eligibility Decision (IRED) document and technical support documents for the organophosphate (OP) pesticide, methamidophos. These documents have been developed using a public participation process designed by EPA and the U.S. Department of Agriculture to involve the public in the reassessment of pesticide tolerances under the Food Quality Protection Act and the reregistration of individual OPs under the Federal Insecticide, Fungicide, and Rodenticide Act.

FOR FURTHER INFORMATION CONTACT: Mark Hartman, Special Review and Reregistration Division (7508C), Office of Pesticide Programs, Environmental Protection Agency, 1200 Pennsylvania Ave., NW., Washington, DC 20460-0001; telephone number: (703) 308-0734; fax number: (703) 308-8041; e-mail address: hartman.mark@epa.gov.

SUPPLEMENTARY INFORMATION:

I. General Information

A. Does this Action Apply to Me?

This action is directed to the public in general, but will interest a wide range of stakeholders, including environmental, human health, and agricultural advocates; the chemical industry; pesticide users; and members of the public interested in the use of pesticides on food. The Agency has not attempted to describe all the persons or entities who may be interested in or affected by this action. If you have questions in this regard, consult the person listed under FOR FURTHER INFORMATION CONTACT.

B. How Can I Get Copies of this Document and Other Related Information?

1. Docket. EPA has established an official public docket for this action under docket identification (ID) number OPP-2002-0266. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805. Please note that technical supporting documents for methamidophos can be found under legacy docket number OPP-34166 and may not be available in EPA Dockets.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number. Please note that technical supporting documents for methamidophos can be found under legacy docket number OPP-34166 and may not be available in EPA Dockets.

II. Background

A. What Action is the Agency Taking?

For the OP pesticide methamidophos, the Agency is announcing the availability of the IRED document and supporting technical documents. EPA has assessed the risks associated with the use of methamidophos and reached an interim reregistration eligibility decision for methamidophos. The methamidophos IRED and supporting technical documents were developed using the OP public participation process, which was designed to increase transparency and maximize stakeholder involvement and to provide numerous opportunities for public comment. You can read more about the OP public participation process at http://www.epa.gov/pesticides/op/process.htm. Below is a brief summary of EPA's interim decision, which is fully described in the methamidophos IRED document.

EPA has determined that methamidophos is eligible for reregistration, pending a full reassessment of the cumulative risk from all OP pesticides, and provided that all the conditions identified in the IRED document are satisfied, including implementation of risk mitigation measures. Without implementation of the risk mitigation measures, the Agency has determined that methamidophos products may pose unreasonable adverse effects on human health and the environment. Therefore, EPA expects that registrant will implement the risk mitigation measures as soon as possible. The IRED document describes, in detail, what is necessary for implementing the risk mitigation measures, such as submission of label amendments for end-use products and submission of any required data. Mitigation measures for methamidophos include a phase out of methamidophos use on cotton by 2007. Should a registrant fail to implement any of the risk mitigation identified in the IRED document, the Agency may take regulatory action to address risk concerns from the use of methamidophos.

B. What is the Agency's Authority for Taking this Action?

The legal authority for this action falls under FIFRA, as amended in 1988 and 1996. Section 4(g)(2)(A) of FIFRA directs that, after submission of all data concerning a pesticide active ingredient, “the Administrator shall determine whether pesticides containing such active ingredient are eligible for reregistration,” before calling in product-specific data on individual end-use products, and either reregistering products or taking “other appropriate regulatory action.”

List of Subjects

Environmental protection, Chemicals, Pesticides and pests.

Dated: September 24, 2002.
Lois Ann Rossi,
Director, Special Review and Reregistration Division, Registration Division, Office of Pesticide Programs.

[FR Doc. 02-25861 Filed 10-10-02; 8:45 am]

BILLING CODE 6560-50-S